DEPARTMENT OF THE INTERIOR

Fish and Wildlife Service

Endangered Species Permit Applications

AGENCY: Fish and Wildlife Service Interior.

ACTION: Notice of receipt of permit applications.

SUMMARY: The following applicants have applied for a scientific research permit to conduct certain activities with endangered species pursuant to section 10(a)(1)(A) of the Endangered Species Act of 1973, as amended (16 U.S.C. 1531 et seq.).

Permit No. TE-778195

Applicant: Helix Environmental Planning, Inc., La Mesa, California.

The applicant requests a permit amendment to take (collect, translocate, and retain) the Riverside fairy shrimp (Streptocephalus wootoni) in conjunction with habitat restoration activities in Riverside County, California for the purpose of enhancing its survival.

Permit No. TE-048385

Applicant: The Nature Conservancy, Eugene, Oregon.

The applicant requests a permit to take (harass by survey and kill larvae) the Fender's blue butterfly (Icaricia icarioides fenderi) in conjunction with surveys, monitoring, and habitat restoration activities, and remove/reduce to possession Kincaid's lupine (Lupinus sulphureus kincaidii) in conjunction with propagation and research in Lane County, Oregon, for the purpose of enhancing their survival.

Permit No. TE-044572

Applicant: Chris Pyke, Santa Barbara, California.

The applicant requests a permit to take (collect cysts) the Conservancy fairy shrimp (Branchinecta conservatio), longhorn fairy shrimp (Branchinecta longiantenna), and the vernal pool tadpole shrimp (Lepidurus packardi) in conjunction with ecological research in San Joaquin, Santa Barbara, Ventura, Tulare, Merced, Butte, Yuma, Solano, and Sutter Counties, California for the purpose of enhancing their survival.

Permit No. TE-823990

Applicant: Wildwing, Los Osos, California.

The applicant requests a permit amendment to take (monitor, locate nests) the California brown pelican (Pelecanus occidentalis) in conjunction with monitoring activities throughout the species' range for the purpose of enhancing its survival.

Permit No. TE-046262

Applicant: Blake Claypool, Santee, California.

The applicant requests a permit to take (survey by pursuit) the Quino checkerspot butterfly (Euphydryas editha quino) throughout its range in California in conjunction with surveys for the purpose of enhancing its survival.

DATES: Written comments on these permit applications must be received on or before December 3, 2001.

ADDRESSES: Written data or comments should be submitted to the Chief, Endangered Species, Ecological Services, Fish and Wildlife Service, 911 NE 11th Avenue, Portland, Oregon 97232-4181; Fax: (503) 231-6243. Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 20 days of the date of publication of this notice to the address above; telephone: (503) 231-2063. Please refer to the respective permit number for each application when requesting copies of documents.

Rowan W. Gould,
Acting Regional Director, Region 1, Portland, Oregon.

[FR Doc. 01-27411 Filed 10-31-01; 8:45 am]

BILLING CODE 4310-55-P